Title 3—

The President

Proclamation 10972 of September 19, 2025

National POW/MIA Recognition Day, 2025

By the President of the United States of America

A Proclamation

From the battlefields of the Revolutionary War to the trenches of World War II to the sprawling jungles of Vietnam, thousands of our patriotic service members have been horrifically captured by the enemy and forced to endure excruciating torture, agony, and distress in the service of our Nation. On this National Prisoner of War/Missing in Action (POW/MIA) Recognition Day, we remember our valiant American Soldiers, Sailors, Marines, Airmen, and Coast Guardsmen who were captured while fighting on foreign soil and our missing in action who have not yet returned home. We honor their courage, we salute their patriotism, and we vow full accountability for the more than 80,000 heroes still missing from the wars and conflicts of the past.

Every American POW has answered the call of duty to fight not only for our country, but for the futures of our families, fellow soldiers, and our beloved Nation. Imprisoned by enemy forces, American POWs endured years of deprivation, brutality, and anguish, sustained only by uncommon resilience and grit. Their families lived in their own prison of fear and perpetual heartache, hoping and praying for a safe return. For the loved ones of the missing, the unfathomable grief endures.

During my first Administration, I signed the National POW/MIA Flag Act directing the POW/MIA flag to be flown with the American flag. The black and white banner represents the noble sacrifices made in defense of our freedom and serves as an enduring and powerful symbol of our unwavering commitment to leaving no one behind.

As Commander in Chief, I remain committed to pursuing full accountability for those captured and missing in action. During my first term, I secured the repatriation of remains from North Korea, believed to be at least 250 individuals who paid the ultimate sacrifice during the Korean War. In March of this year, our Nation identified the 100th service member from the remains—ending decades of uncertainty for the families of the fallen. This sacred mission will continue until every American is returned home.

Today, the First Lady joins me in honoring America's POW/MIAs and their families. The debt of gratitude for their unimaginable sacrifices in defense of our sovereignty can never be repaid, and must never be forgotten.

NOW, THEREFORE, I, DONALD J. TRUMP, President of the United States of America, by virtue of the authority vested in me by the Constitution and the laws of the United States, do hereby proclaim September 19, 2025, as National POW/MIA Recognition Day. I salute all American POWs who, in the presence of great dangers and uncertainties, honored their duty to this great country. Let this day also serve as a reminder for our Nation to strengthen our resolve to account for those who are still missing and provide their families long-sought answers. I call upon Federal, State, tribal, and local government officials and private organizations to observe this day with appropriate ceremonies and activities.

IN WITNESS WHEREOF, I have hereunto set my hand this nineteenth day of September, in the year of our Lord two thousand twenty-five, and of the Independence of the United States of America the two hundred and fiftieth.

[FR Doc. 2025-18600

Filed 9-23-25; 11:15 am]

Billing code 3395-F4-P